DEPARTMENT OF HEALTH AND HUMAN SERVICES

Centers for Medicare & Medicaid Services

[CMS-7020-N]

Medicare, Medicaid, and Children's Health Insurance Programs; Renewal, Expansion, and Renaming of the Advisory Panel on Outreach and Education (APOE) and Request for Nominations

AGENCY: Centers for Medicare & Medicaid Services (CMS), HHS.

ACTION: Notice.

SUMMARY: This notice announces that the charter of the Advisory Panel on Medicare Education (APME), as renamed the Advisory Panel on Outreach and Education (APOE), has been renewed and the scope of the charter has been expanded. It also requests nominations for individuals to serve on the APOE.

DATES: Nominations will be considered if we receive them at the appropriate address, provided in the ADDRESSES section of this notice, no later than 5 p.m., e.d.t. on April 4, 2011.

ADDRESSES: Mail or deliver nominations to the following address: Jennifer B. Kordonski, Designated Federal Official, Office of External Affairs and Beneficiary Services, CMS, 7500 Security Boulevard, Mail Stop S1-13-05, Baltimore, MD 21244-1850 or e-mail to Jennifer.kordonski@cms.hhs.gov.

FOR FURTHER INFORMATION CONTACT: Jennifer B. Kordonski, Designated Federal Official, Office of External Affairs and Beneficiary Services, CMS, 7500 Security Boulevard, Mail Stop S1-13-05, Baltimore, MD 21244, 410-786-1840, e-mail Jennifer.kordonski@cms.hhs.gov or visit the Web site at http://www.cms.gov/FACA/04_APOE.asp. Press inquiries are handled through the CMS Press Office at (202) 690-6145.

SUPPLEMENTARY INFORMATION:

I. Background

The Advisory Panel on Medicare Education (APME) was established in January 1999 in accordance with section 9(a)(2) of the Federal Advisory Committee Act (FACA), which authorizes the Secretary of Health and Human Services (the Secretary) to establish an advisory panel if the Secretary determines that the panel is “in the public interest in connection with the performance of duties imposed * * * by law.” Such duties are specifically imposed by section 1804 of the Social Security Act (the Act), requiring the Secretary to provide informational materials to Medicare beneficiaries about the Medicare program, and section 1851(d) of the Act, requiring the Secretary to provide for “activities * * * to broadly disseminate information to [M]edicare beneficiaries * * * on the coverage options provided under [Medicare Advantage] in order to promote an active, informed selection among such options.”

The APME was also authorized by section 1114(f) of the Act (42 U.S.C. 1314(f)) and section 222 of the Public Health Service Act (PHSA) (42 U.S.C. 217a). The Secretary signed the charter establishing the APME on January 21, 1999 (64 FR 7899, February 17, 1999).

II. Provisions of This Notice

A. Renewal, Renaming, and Amendment of the APOE

Over the last decade, the role of the APME in advising the Secretary and CMS on Medicare education activities has contributed to the overall improved understanding by beneficiaries of original Medicare, Medicare Advantage (MA), and Medicare Prescription Drug plans. With enactment of the health care reform provisions of the Patient Protection and Affordable Care Act (Pub. L. 111-148) as amended by the Health Care and Education Reconciliation Act of 2010 (Pub. L. 111-152) (these two public laws are collectively referred to as the Affordable Care Act), we realized that the usefulness of this FACA group could be expanded to assist the Secretary and CMS with responsibilities under the Medicaid and CHIP programs. Pursuant to the charter approved on January 21, 2011, the APME was renewed, expanded, and renamed to reflect this broader scope of responsibilities. The renamed Advisory Panel on Outreach and Education (APOE)) will advise the Department of Health and Human Services and CMS on developing and implementing education programs that support individuals with or who are eligible for Medicare, Medicaid and the Children's Health Insurance Program (CHIP) about options for selecting health care coverage under these and other programs envisioned under health care reform to ensure improved access to quality care, including prevention services. The expansion of this FACA group will also include advising on education of providers and stakeholders with respect to health care reform and certain provisions of the Health Information Technology for Economic and Clinical Health (HITECH) Act enacted as part of the American Recovery and Reinvestment Act of 2009 (ARRA). For ease of reference, the APOE will be exclusively referred to by its new name in the remainder of this notice, even if it is referring to past activities.

The charter will terminate on January 21, 2013, unless renewed by appropriate action. The APOE was chartered under 42 U.S.C. 222 of the PHSA, as amended. The APOE is governed by provisions of Public Law 92-463, as amended (5 U.S.C. Appendix 2), which sets forth standards for the formation and use of advisory committees.

Pursuant to the amended charter, the APOE will advise the Secretary of Health and Human Services and the CMS Administrator concerning optimal strategies for the following:

• Developing and implementing education and outreach programs for individuals enrolled in or eligible for Medicare, Medicaid, and CHIP.

• Enhancing the Federal government's effectiveness in informing the Medicare, Medicaid and CHIP consumers, providers and stakeholders pursuant to education and outreach programs of issues regarding these and other health coverage programs, including the appropriate use of public-private partnerships to leverage the resources of the private sector in educating beneficiaries, providers and stakeholders.

• Expanding outreach to vulnerable and underserved communities, including racial and ethnic minorities, in the context of Medicare, Medicaid, and CHIP education programs.

• Assembling and sharing an information base of “best practices” for helping consumers evaluate health plan options.

• Building and leveraging existing community infrastructures for information, counseling and assistance.

• Drawing the program link between outreach and education, promoting consumer understanding of health care coverage choices and facilitating consumer selection/enrollment, which in turn support the overarching goal of improved access to quality care, including prevention services, envisioned under health care reform.

B. Requests for Nominations

The APOE shall consist of no more than 20 members. The Chair shall either be appointed from among the 20 members, or a Federal official will be designated to serve as the Chair. The charter requires that meetings shall be held approximately four times per year. Members will be expected to attend all meetings. The members and the Chair shall be selected from authorities knowledgeable in one or more of the following fields:

• Senior citizen advocacy.

• Outreach to minority communities.

• Health communications.

• Disease-related advocacy.

• Disability policy and access.

• Health economics research.

• Health insurers and plans.

• Health IT.

• Direct patient care.

• Matters of labor and retirement.

Representatives of the general public may also serve on the APOE.

This notice also announces that as of January 2011, there are 12 expired terms of membership. This notice is an invitation to interested organizations or individuals to submit their nominations for membership on the APOE. The CMS Administrator will appoint new members to the APOE from among those candidates determined to have the expertise required to meet specific agency needs, and in a manner to ensure an appropriate balance of membership. We have an interest in ensuring that the interests of both women and men, members of all racial and ethnic groups, and physically challenged individuals are adequately represented on the APOE. Therefore, we encourage nominations of qualified candidates who can represent these interests. Any interested person may nominate one or more qualified persons.

Current members whose terms expired in 2010 or 2011 may be considered for reappointment, subject to committee service guidelines.

Each nomination must state that the nominee has expressed a willingness to serve as a Panel member and must be accompanied by a curricula vitae and a brief biographical summary of the nominee's experience.

While we are looking for experts in a number of fields, our most critical needs are for experts in health disparities, State Health Insurance Assistance Programs (SHIPs), health insurance plans, aging, Web health education, e-prescribing, retirement/financial planning, health research, public health and prevention, caregiving, CHIP, health insurance exchanges, and minority health education.

We are requesting that all curricula vitae include the following:

• Date of birth.

• Place of birth.

• Title and current position.

• Professional affiliation.

• Home and business address.

• Telephone and fax numbers.

• E-mail address.

• List of areas of expertise.

Phone interviews of nominees may also be requested after review of the nominations.

In order to permit an evaluation of possible sources of conflict of interest, potential candidates will be asked to provide detailed information concerning such matters as financial holdings, consultancies, and research grants or contracts.

Members are invited to serve for 2-year terms, contingent upon the renewal of the APOE by appropriate action prior to its termination. A member may serve after the expiration of that member's term until a successor takes office. Any member appointed to fill a vacancy for an unexpired term shall be appointed for the remainder of that term.

III. Copies of the Charter

The Secretary's Charter for the APOE is available on the CMS Web site at: http://www.cms.gov/FACA/04_APOE.asp, or you may obtain a copy of the charter by submitting a request to the contact listed in the FOR FURTHER INFORMATION CONTACT section of this notice.

(Catalog of Federal Domestic Assistance Program No. 93.778, Medical Assistance Program; No. 93.773 Medicare—Hospital Insurance Program; and No. 93.774, Medicare—Supplementary Medical Insurance Program)

Dated: February 25, 2011.
Donald M. Berwick,
Administrator, Centers for Medicare & Medicaid Services.

[FR Doc. 2011-4754 Filed 2-28-11; 4:15 pm]

BILLING CODE 4120-01-P